FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than August 4, 2022.

A. Federal Reserve Bank of Kansas City (Jeffrey Imgarten, Assistant Vice President) 1 Memorial Drive, Kansas City, Missouri 64198-0001: 1. J. Scott Schrempp, Hartington, Nebraska, Christine Rossiter, Elkhorn, Nebraska, and Mary Rossiter, Macon, Georgia; to become members of Rossiter Family Control Group, a group acting in concert, to retain voting shares of Cedar Bancorp, and thereby indirectly retain voting shares of Bank of Hartington, both of Hartington, Nebraska.

B. Federal Reserve Bank of Chicago (Colette A. Fried, Assistant Vice President) 230 South LaSalle Street, Chicago, Illinois 60690-1414: 1. The ATPB Exempt Bank Trust, and the ATPB Non-Exempt Bank Trust, both of La Crosse, Wisconsin, Andrew R. Bosshard, La Crosse, Wisconsin, and Ashley B. Sawyer, Washington, DC, as co-trustees to both trusts, Alexandra Tana Pizitz Bosshard, Washington, DC, as investment advisor and with power to appoint or remove trustees, and Elizabeth Bosshard-Blackey, Edina, Minnesota, as trust protector and with power to appoint or remove trustees; to become members of the Bosshard Family Control Group, a group acting in concert, to acquire voting shares of Bosshard Financial Group, Inc., La Crosse, Wisconsin, and thereby indirectly acquire voting shares of One Community Bank, Oregon, Wisconsin, and Farmers State Bank-Hillsboro, Hillsboro, Wisconsin.

Board of Governors of the Federal Reserve System.
Margaret McCloskey Shanks,
Deputy Secretary of the Board.

[FR Doc. 2022-15508 Filed 7-19-22; 8:45 am]

BILLING CODE P